FEDERAL COMMUNICATIONS COMMISSION

FCC To Hold Open Commission Meeting Thursday, November 19, 2015

November 12, 2015.

The Federal Communications Commission will hold an Open Meeting on the subjects listed below on Thursday, November 19, 2015, which is scheduled to commence at 10:30 a.m. in Room TW-C305, at 445 12th Street SW., Washington, DC.

Item No. | Bureau | Subject
1 | Public Safety and Homeland Security | Title: Improving Wireless Emergency Alerts and Community-Initiated Alerting (PS Docket No. 15-91). Summary: The Commission will consider a Notice of Proposed Rulemaking that would improve the effectiveness of WEA message content and the geographic targeting of WEA messages, and facilitate WEA testing and proficiency training.
2 | Wireless Tele-Communications | Title: Amendment of the Commission's Rules Governing Hearing Aid Compatible Mobile Handsets (WT Docket No. 07-250). Summary: The Commission will consider a Report and Order and Notice of Proposed Rulemaking that would update the scope of the wireless hearing aid compatibility rules and seek comment on additional measures that would ensure greater deployment of hearing aid compatible wireless handsets.
3 | Media | Title: Accessibility of User Interfaces, and Video Programming Guides and Menus (MB Docket No. 12-108). Summary: The Commission will consider a Second Report and Order, Order on Reconsideration, and Second Further Notice of Proposed Rulemaking to provide consumers with better information about the availability of accessible devices and features, and create easier access to video programming and closed captioning on devices.
* * * * * *
Consent Agenda
The Commission will consider the following subjects listed below as a consent agenda and these items will not be presented individually:
1 | Enforcement | Title: Enforcement Bureau Order. Summary: The Commission will consider an Order concerning an Application for Review.
2 | Media | Title: Bellizzi Broadcasting Network, Inc. Station WEYW-LP, Key West, Florida
|  | Summary: The Commission will consider a Memorandum Opinion and Order concerning an Application for Review filed by Bellizzi Broadcasting Network, Inc. seeking review of a Media Bureau Order on Reconsideration finding WEYW is not a qualified low-power television station.
3 | Media | Title: Hawaii Public Radio, Inc. for a New Noncommercial Educational FM station at Kailua, Hawaii, et al.
|  | Summary: The Commission will consider a Memorandum Opinion and Order concerning Applications for Review filed by Wren Communications, Inc., Cedar Cove Broadcasting, Inc. and Kanu O Ka Aina Learning Ohana seeking review the Media Bureau's decisions regarding NCE MX Group 510.
4 | Media | Title: Susquehanna Radio Corp. and Whitley Media, LLC Application for Consent to Assignment of License and Cancellation of License for DKTDK(FM), Sanger, Texas.
|  | Summary: The Commission will consider a Memorandum Opinion and Order concerning Petitions for Reconsideration filed by Whitley Media and North Texas Radio Group seeking review of a Commission Order regarding the Petitioners standing to challenge the cancellation of DKTDK(FM).
5 | Media | Title: Christian Broadcasting of East Point, Inc. Applications to Renew and Assign the License of DWTJH(AM), East Point, GA.
|  | Summary: The Commission will consider a Memorandum Opinion and Order concerning two Applications for Review filed by Praise 95, Inc. and Christian Broadcasting of East Point, Inc. seeking review of a Media Bureau decision finding that the license of DWTJH(AM) had forfeited.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2015-29849 Filed 11-23-15; 8:45 am]

BILLING CODE 6712-01-P